DEPARTMENT OF ENERGY

Federal Energy Regulatory Commission

[Docket No. RP03-492-000]

Columbia Gulf Transmission Company; Notice of Proposed Changes in FERC Gas Tariff

June 3, 2003.

Take notice that on May 30, 2003, Columbia Gulf Transmission Company (Columbia Gulf) tendered for filing as part of its FERC Gas Tariff, Second Revised Volume No.1, the following revised tariff sheets, a proposed effective date of July 1, 2003:

Fifth Revised Sheet No. 55A

Sixth Revised Sheet No. 63A

Second Revised Sheet No. 88

Seventh Revised Sheet No. 125

Third Revised Sheet No. 272

Original Sheet No. 273

Fifth Revised Sheet No. 318

Columbia Gulf states that it is making this filing to add a new General Terms and Conditions (GTC) section to its Tariff, and to make conforming revisions to related Tariff provisions. In particular, Columbia Gulf states that it is proposing to include in new Section 34 of the GTC of its Tariff a provision that will permit Columbia Gulf and eligible shippers to mutually agree to include in their service agreements regulatory unbundling contract demand reduction rights under specified circumstances.

Columbia Gulf states that copies of its filing have been mailed to all firm customers, interruptible customers and affected state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with § 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 11, 2003.
Magalie R. Salas,
Secretary.

[FR Doc. 03-14513 Filed 6-9-03; 8:45 am]

BILLING CODE 6717-01-P